DEPARTMENT OF THE INTERIOR

Fish and Wildlife Service

Availability of an Environmental Assessment and Receipt of an Application for an Endangered Species Act Permit To Allow Incidental Take of the Coastal California Gnatcatcher by Evergreen Nursery, Oceanside, California

AGENCY: Fish and Wildlife Service, Interior.

ACTION: Notice of availability.

SUMMARY: Evergreen Nursery has applied for an incidental take permit from the Fish and Wildlife Service pursuant to section 10(a)(1)(B) of the Endangered Species Act of 1973, as amended. The proposed 15-year permit would authorize take of the threatened coastal California gnatcatcher (Polioptila californica californica; gnatcatcher) incidental to construction and operation of an 80.15-acre nursery in the City of Oceanside, San Diego County, California.

The permit application includes a Habitat Conservation Plan and Implementation Agreement, both of which are available for public review and comment. The Environmental Assessment for proposed issuance of the permit also is available for review and comment. All comments on the permit application and Environmental Assessment will become part of the administrative record and may be released to the public.

DATES: Written comments should be received on or before March 1, 2000.

ADDRESSES: Comments should be addressed to Mr. Ken Berg, Field Supervisor, U.S. Fish and Wildlife Service, 2730 Loker Avenue West, Carlsbad, California 92008. Comments may be sent by facsimile to telephone 760-431-9618.

FOR FURTHER INFORMATION CONTACT: Mr. Mark Elvin, Fish and Wildlife Biologist, at the above address or telephone 760-431-9440.

SUPPLEMENTARY INFORMATION:

Document Availability

If you would like copies of the documents for review, please contact the office listed above immediately. Documents also will be available for public inspection, by appointment, during normal business hours at the above address.

Background

Under Section 9 of the Endangered Species Act and its implementing regulations, taking of threatened and endangered wildlife species is prohibited. Under the Act, the term “take” means to harass, harm, pursue, hunt, shoot, wound, kill, capture or collect listed wildlife, or attempt to engage in such conduct. Harm includes habitat modification that kills or injures wildlife by significantly impairing essential behavioral patterns, including breeding, feeding, or sheltering. Under limited circumstances, the Service may issue permits to take threatened or endangered wildlife species if such taking is incidental to, and not the purpose of, otherwise lawful activities. Regulations governing permits for threatened and endangered species are found at 50 CFR 17.22 and 17.32.

Evergreen Nursery is seeking an incidental take permit from the Service pursuant to section 10(a)(1)(B) of the Endangered Species Act of 1973, as amended. The permit would authorize incidental take of the federally threatened coastal California gnatcatcher for the proposed project. The site is also occupied by the endangered least Bells vireo (Vireo bellii pusillus); however, Evergreen Nursery has incorporated measures into its Habitat Conservation Plan to avoid take of this species. Therefore the permit would not authorize take of the vireo.

The proposed project is located in the City of Oceanside immediately south of Oceanside Boulevard, east of El Camino Real, and west of Rancho del Oro. The proposed project consists of: (1) The construction and operation of a plant nursery on 80.15 acres; and (2) implementation of a Habitat Conservation Plan over a 15-year period. The Plan would establish and provide for management of a 29.66-acre conservation area on the project site, consisting of 24.0 acres of coastal sage scrub for the gnatcatcher and 5.66 acres of riparian habitat for the least Bells vireo. Evergreen Nursery would re-vegetate or enhance approximately 7 acres of coastal sage scrub habitat within the conservation area.

Project features include two primary nursery areas where plants would be grown and sold, a sales and administration building, a maintenance building, a facility building, a compost production area, and a water collection pond. To access the south side of the site an approximately 100 foot-long bridge would be constructed over Loma Alta Creek (at the location of an existing road crossing) and over active railroad tracks. Existing flat and disturbed areas south of the railroad tracks would be used for plant growing and storage in containers. Existing dirt roads would be used for access.

The Habitat Conservation Plan and the Environmental Assessment consider three alternatives to the proposed commercial development project: the no project alternative, the alternate location alternative, and the alternate plan designs alternative. Under the proposed project alternative, a permit would be issued for incidental take of the gnatcatcher. This alternative would result in the permanent loss of 4.11 acres of habitat that currently supports 3 gnatcatchers (one breeding pair, plus an unpaired male) within the 80.15-acre project site. This alternative would permanently preserve 29.66 acres of habitat for the gnatcatcher.

Under the no project alternative, Evergreen Nursery would not apply for an incidental take permit, would not construct the proposed nursery on the site, and would not establish and manage a preserve for the threatened coastal California gnatcatcher. Present disturbance of the project area would continue in the form of trespassing in gnatcatcher-occupied habitat, illegal dumping, erosion, and periodic fire. Considering the area is zoned for commercial use, it is likely that the area would eventually be developed for another commercial use.

Under the alternate location alternative, Evergreen Nursery sought alternative sites for the proposed nursery within the county limits of San Diego County. The environmental consequences of developing some of these sites were not analyzed since none of the sites met the requirements that would allow for sale of nursery stock. The sites that did not meet the project goals would not have required a permit. One property that did meet the needs of the project was eliminated from consideration due to environmental concerns. Approximately 90 acres of the parcel lies in the San Luis Rey River basin. The remainder of the property is coastal sage scrub habitat on steep slopes. This site would have had greater impacts to sensitive and listed species than the proposed project and would have required the issuance of a permit.

Evergreen Nursery also considered alternate plan designs to its project. This alternative would have resulted in greater impacts to sensitive and listed species than the proposed project. The open space preserve would have been smaller and the benefit to the gnatcatcher and vireo would have been less than the proposed project.

This notice is provided pursuant to section 10(c) of the Endangered Species Act and pursuant to implementing regulations for the National Environmental Policy Act (40 CFR 1506.6). The Service will evaluate the permit application, associated documents, and comments submitted thereon to determine whether the application meets the requirements of National Environmental Policy Act regulations and section 10(a) of the Endangered Species Act. If we determine that the requirements are met, we will issue a permit for the incidental take of the gnatcatcher. Our final decision will not be completed until after the end of the 30-day comment period and will fully consider all public comments received during the comment period.

Dated: January 19, 2000.
Daniel S. Walsworth,
Acting Manager, California/Nevada Operations Office, Fish and Wildlife Service, Sacramento, California.

[FR Doc. 00-1922 Filed 1-28-00; 8:45 am]

BILLING CODE 4310-55-P